DEPARTMENT OF THE INTERIOR

Office of Historical Trust Accounting; Historical Accounting of Individual Indian Money Accounts: Collection of Documents Related to Oil and Gas Production on Allotted Lands

AGENCY: Office of Historical Trust Accounting, Interior.

ACTION: Notice regarding records relating to indian allotted land and individual indian money accounts.

SUMMARY: Notice is hereby given that the Department of the Interior is requesting that anyone who possesses records related to the Individual Indian Money (IIM) trust funds to notify the Department, and to preserve and maintain such records indefinitely until further notice. If preferred, such records custodians should contact the Office of Historical Trust Accounting, 1951 Constitution Avenue, NW., MS 16 SIB, Washington, DC, 20240, so that arrangements can be made for the Department to take custody of such records. The purpose of this request is to ensure that such records are not destroyed so that they may be used to support an accounting of IIM trust funds. Generally, this request applies to entities that have or had business with the Department or individual Indians involving the payment of money for use of or access to Indian allotted lands, and would include entities in the oil and gas industry, the timber industry, farming and grazing operations, financial institutions, public utilities (e.g., gas, electric and telephone companies), Indian Tribes, other federal agencies, state and local government archives, and non-governmental depositories such as historical societies, and possibly others. Relevant records would include any records which pertain to revenue generated on Indian allotted land from 1887 to the present, revenue generated due to Tribal judgment or per capita payments, and any other records which pertain to IIM trust institutions, public utilities (e.g., gas, electric and telephone companies), Indian Tribes, other federal agencies, state and local government archives, and non-governmental depositories such as historical societies, and possibly others. This request is pursuant to the Department's duty to account for trust funds held in IIM accounts.

FOR FURTHER INFORMATION CONTACT: Stephen Swanson, Project Coordinator, Office of Historical Trust Accounting, 1951 Constitution Avenue, NW., MS 16 SIB, Washington, DC 20240, telephone 202/208-3405, or by facsimile at 202/219-1139.

SUPPLEMENTARY INFORMATION: On December 21, 1999, the United States District Court for the District of Columbia declared that the Department must provide individual Indian Money (IIM) account holders “an accurate accounting of all money in the IIM trust held in trust for the benefit of [IIM account holders] without regard to when the funds were deposited.” Cobell v. Norton, 92 F.Supp.2d, 1, 58 (D.D.C. 1999). This accounting will include, at an appropriate level of detail, an assessment of the accuracy of the balances in IIM accounts, reports to individual beneficiaries of the money and real property held in trust for their benefit, and reports to individual beneficiaries that contain sufficient information to allow beneficiaries to determine whether the trust has been faithfully performed. In furtherance of accomplishing the overall duty to account, the District Court held that the Department was in breach of a specific duty to have “written policies and procedures for collecting from outside sources missing information necessary to render an accounting of the IIM trust[.]” Id. On appeal, the Court of Appeals for the District of Columbia Circuit stated that written policies and procedures for the collection of such records are “necessary for the government to discharge its fiduciary obligation” to account for IIM trust funds. Cobell v. Norton, 240 F.3d 1081, 1105-06 (D.C. Cir, 2001).

The Department is in the process of developing written policies and procedures for the collection of such records. However, the Department recognizes that it is important to reach out to non-Interior sources of these records to encourage them to preserve and maintain them so that they are available to support the accounting of IIM funds. The Department will provide further guidance based upon the information obtained from record custodians.

Dated: February 1, 2002.
J. Steven Griles,
Deputy Secretary.

[FR Doc. 02-2931 Filed 2-1-02; 5:04 pm]

BILLING CODE 4310-02-P